FEDERAL COMMUNICATIONS COMMISSION

47 CFR Part 73

[DA 02-1344; MB Docket No. 02-141; RM-10428]

Radio Broadcasting Services; Belle Haven, Cape Charles, Exmore, VA

AGENCY: Federal Communications Commission.

ACTION: Proposed rule.

SUMMARY: This document requests comment on a petition for rulemaking filed on behalf of Commonwealth Broadcasting, LLC, licensee of Station WEXM(FM), Exmore, Virginia, and Sinclair Telecable, d/b/a Sinclair Communications, licensee of Station WROX-FM, Cape Charles, Virginia the proposing the reallotment of Channel 291B from Exmore to Belle Haven, Virginia as the community's first local aural transmission service, and modification of Station WEXM(FM)'s license to reflect the change of community. Station WEXM is licensed on Channel 291A, but was granted a construction permit by one-step application to upgrade to Channel 291B at Exmore (File No. BMPH-20010502AAR). See 66 FR 50576 (October 4, 2001). The petition also requests reallotment of Channel 241B from Cape Charles to Exmore, Virginia and the modification of Station WROX's license to reflect the change of community. Channel 291B can be allotted at Belle Haven at petitioner's requested site 8.5 kilometers (5.3 miles) west of the community at coordinates NL 37-31-46 and WL 75-54-44. Channel 241B can be allotted at Exmore at a site 29.4 kilometers (18.2 miles) southwest of the community at coordinates NL 37-18-02 and WL 75-59-05.

DATES: Comments must be filed on or before July 29, 2002, and reply comments on or before August 13, 2002.

ADDRESSES: Secretary, Federal Communications Commission, Washington, DC 20554. In addition to filing comments with the FCC, interested parties should serve the petitioner, as follows: Howard M. Weiss, Allison Shapiro, Fletcher, Heald & Hildreth P.L.C. 1300 North 17th Street, 11th Floor Arlington, VA 22209.

FOR FURTHER INFORMATION CONTACT: Victoria M. McCauley, Media Bureau, (202) 418-2180.

SUPPLEMENTARY INFORMATION: This is a synopsis of the Commission's Notice of Proposed Rule Making, MB Docket No. 02-141, adopted, May 29, 2002, and released June 7, 2002. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Virginia, is amended by adding Belle Haven, Channel 291B, removing Cape Charles, Channel 241B, and removing Channel 291B and adding 241B at Exmore.

Federal Communications Commission.
John A. Karousos,
Assistant Chief, Audio Division, Office of Broadcast License Policy, Media Bureau.

[FR Doc. 02-15669 Filed 6-21-02; 8:45 am]

BILLING CODE 6712-01-P